Proclamation 7670 of April 30, 2003

Law Day, U.S.A., 2003

By the President of the United States of America

A Proclamation

America was founded on the ideals of liberty and equality for all, and the Framers of the Constitution created three branches of the national Government to uphold these principles. The third branch, the Judicial, is responsible for administering justice fairly and impartially. On Law Day, we recognize the achievements of our Nation's legal system and our independent Judiciary in sustaining the rights and liberties we cherish.

George Washington wrote, “The administration of justice is the firmest pillar of government.” Our Judicial branch upholds the rule of law in our society and strengthens our democracy. Under the Constitution, judges are granted the solemn responsibility of providing fair and impartial resolution of criminal and civil disputes.

This year's Law Day theme, “Independent Courts Protect Our Liberties,” focuses on one of the foundations of our constitutional system: judicial independence, provided in the Federal system by life tenure and an assured level of compensation. In order to ensure equality for all citizens and fairness in the judicial process, our judges must serve as impartial arbiters who do not have a stake in their decisions or seek to achieve a biased outcome or particular result in the cases they oversee.

Our constitutional system of separation of powers places careful limits on the powers of judges and separates the responsibilities of making laws and interpreting laws between the Legislative and Judicial branches. Independent Federal judges have the autonomy to make decisions and interpret the law unfettered by outside influences. In this way, we are assured that our laws will be interpreted justly and applied with uniformity.

Our Nation's judges must be men and women of exemplary character, wisdom, experience, and good temperament, and have a willingness to work hard. They must be jurists who will honor the public office with which they are entrusted.

This Law Day, we recognize the vital role of independent judges in upholding justice in courts throughout our land, and we resolve to continue to support and strengthen the Judicial branch, thereby helping to preserve our rights and liberties.

NOW, THEREFORE, I, GEORGE W. BUSH, President of the United States of America, in accordance with Public Law 87-20, as amended, do hereby proclaim May 1, 2003, as Law Day, U.S.A. I call upon all the people of the United States to observe this day with appropriate ceremonies and activities. I also call upon Government officials to display the flag of the United States in support of this national observance.

IN WITNESS WHEREOF, I have hereunto set my hand this thirtieth day of April, in the year of our Lord two thousand three, and of the Independence of the United States of America the two hundred and twenty-seventh.

B

[FR Doc. 03-11191

Filed 5-2-03; 8:45 am]

Billing code 3195-01-P